NATIONAL FOUNDATION ON THE ARTS AND THE HUMANITIES

National Endowment for the Arts

30-Day Notice for the “Application for Domestic Indemnification”; Proposed Collection; Comment Request

ACTION: Notice.

SUMMARY: The National Endowment for the Arts, on behalf of the Federal Council on the Arts and the Humanities, will submit the following public information collection request (ICR) to the Office of Management and Budget (OMB) for review and approval in accordance with the Paperwork Reduction Act of 1995: Application for Domestic Indemnification. Copies of this ICR, with applicable supporting documentation, may be obtained by visiting www.reginfo.gov.

DATES: Written comments must be submitted to the office listed in the address section below within 30 days from the date of this publication in the Federal Register.

ADDRESSES: Written comments and recommendations for proposed information collection requests should be sent within 30 days of publication of this Notice to www.reginfo.gov/public/do/PRAMain. Find this particular information collection request by selecting “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated, electronic, mechanical, or other technological collection techniques or other forms of information technology, e.g., permitting the electronic submissions of responses.

Agency: National Endowment for the Arts.

Title: Application for Domestic Indemnification.

OMB Number: 3135-0123.

Frequency: Renewed every three years.

Affected Public: Nonprofit, tax exempt organizations, and governmental units.

Estimated Number of Respondents: 18 per year.

Estimated Time per Respondent: 40 hours.

Estimated Cost per Respondent: $2,097.

Total Burden Hours: 720 hours.

Total Annualized Capital/Startup Costs: 0.

Total Annual Costs (Operating/Maintaining Systems or Purchasing Services): $163,888.

Description: This application form is used by nonprofit, tax-exempt organizations (primarily museums), and governmental units to apply to the Federal Council on the Arts and the Humanities (through the National Endowment for the Arts) for indemnification of eligible works of art and artifacts, borrowed from lenders in the United States for exhibition in United States. The indemnity agreement is backed by the full faith and credit of the United States. In the event of loss or damage to an indemnified object, the Federal Council on the Arts and the Humanities certifies the validity of the claim and requests payment from Congress. 20 U.S.C. 973 et seq. requires such an application and specifies information which must be supplied. This statutory requirement is implemented by regulation at 45 CFR 1160.4.

Dated: January 19, 2023.
Bonita Smith,
Director, Office of Administrative Services and Contracts, National Endowment for the Arts.

[FR Doc. 2023-01431 Filed 1-24-23; 8:45 am]

BILLING CODE 7537-01-P